DEPARTMENT OF ENERGY

Federal Energy Regulatory Commission

[Project No. 14594-000]

Howard A. Hanson Power, LLC; Notice of Preliminary Permit Application Accepted for Filing and Soliciting Comments, Motions To Intervene, and Competing Applications

On March 3, 2014, Howard A. Hanson Power, LLC, filed an application for a preliminary permit, pursuant to section 4(f) of the Federal Power Act (FPA), proposing to study the feasibility of the Howard A. Hanson Hydroelectric Project (Hanson Project or project) to be located on Howard A. Hanson reservoir near Enumclaw in King County, Washington. The sole purpose of a preliminary permit, if issued, is to grant the permit holder priority to file a license application during the permit term. A preliminary permit does not authorize the permit holder to perform any land-disturbing activities or otherwise enter upon lands or waters owned by others without the owners' express permission.

The proposed project would consist of the following: (1) An existing earth and rockfill dam on the Howard A. Hanson reservoir having a total storage capacity of 136,700 acre-feet at a normal maximum operating elevation of 1,141 feet mean sea level; (2) four 150 to 300-foot-long, 48-inch-diameter steel penstocks each housing an inline turbine/generation unit for a total capacity of 5 megawatts; (3) an overhead or buried 1-mile-long, 15-kilovolt transmission line extending from the project to an existing local utility's line (the point of interconnection); and (4) appurtenant facilities. The estimated annual generation of the Hanson Project would be 26 gigawatt-hours.

Applicant Contact: Mr. Magnús Jóhannesson, Howard A. Hanson Power, LLC, 46 Peninsula Center, Ste. E, Rolling Hills Estates, CA 90274, phone 310-699-6400, email mj@americarenewables.com.

FERC Contact: Ryan Hansen, phone: (202) 502-8074, email ryan.hansen@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14594-000.

More information about this project, including a copy of the application, can be viewed or printed on the “eLibrary” link of Commission's Web site at http://www.ferc.gov/docs-filing/elibrary.asp. Enter the docket number (P-14594) in the docket number field to access the document. For assistance, contact FERC Online Support.

Dated: May 14, 2014.
Kimberly D. Bose,
Secretary.

[FR Doc. 2014-11712 Filed 5-20-14; 8:45 am]

BILLING CODE 6717-01-P